DEPARTMENT OF COMMERCE

International Trade Administration

[A-851-805, A-821-835]

Emulsion Styrene-Butadiene Rubber From the Czech Republic and the Russian Federation: Postponement of Preliminary Determinations in the Less-Than-Fair-Value Investigations

AGENCY: Enforcement and Compliance, International Trade Administration, Department of Commerce.

DATES: Applicable March 31, 2022.

FOR FURTHER INFORMATION CONTACT: Leo Ayala (the Czech Republic); or Caitlin Monks and Zachary Le Vene (the Russian Federation (Russia)), AD/CVD Operations, Office VII, Enforcement and Compliance, International Trade Administration, U.S. Department of Commerce, 1401 Constitution Avenue NW, Washington, DC 20230; telephone: (202) 482-3945, (202) 482-2670, and (202) 482-0056, respectively.

SUPPLEMENTARY INFORMATION:

Background

On December 6, 2021, the Department of Commerce (Commerce) initiated less-than-fair-value (LTFV) investigations of imports of emulsion styrene-buradiene rubber (ESBR) from the Czech Republic and Russia.¹ Currently, the preliminary determinations are due no later than April 25, 2022.

¹ See Emulsion Styrene-Butadiene Rubber from the Czech Republic, Italy, and the Russian Federation: Initiation of Less-than-Fair-Value Investigations, 86 FR 70447 (December 10, 2021).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On March 17, 2022, the petitioner ² submitted a timely request that Commerce postpone the preliminary determinations in these LTFV investigations.³ The petitioner stated that it requests postponement because “{Commerce} has not yet received full and completed responses to the questionnaire it issued to respondents,” and the “{p}etitioner has identified deficiencies in the responses provided that must be remedied prior to {Commerce's} issuance of its preliminary determination.” ⁴

² The petitioner is Lion Elastomers LLC.

³ See Petitioner's Letter, “Emulsion Styrene-Butadiene Rubber from the Czech Republic and Russia: Petitioner's Request for Postponement of Preliminary Determination,” dated March 17, 2022.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than June 14, 2022. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: March 25, 2022.
Lisa W. Wang,
Assistant Secretary for Enforcement and Compliance.

[FR Doc. 2022-06828 Filed 3-30-22; 8:45 am]

BILLING CODE 3510-DS-P